DEPARTMENT OF ENERGY

Federal Energy Regulatory Commission

[Project No. 15000-003]

Erie Boulevard Hydropower, L.P.; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 15000-003.

c. Date filed: June 30, 2022.

d. Applicant: Erie Boulevard Hydropower, L.P. (Erie).

e. Name of Project: Franklin Falls Hydroelectric Project (Franklin Falls Project).

f. Location: On the Saranac River, in the town of St. Armand in Essex County and the town of Franklin in Franklin County, New York. The project does not include any federal land.

g. Filed Pursuant to: Federal Power Act 16 U.S.C. 791 (a)-825(r).

h. Applicant Contact: Steven Murphy, Director, U.S. Licensing, Erie Boulevard Hydropower, L.P., 33 West 1st Street South, Fulton, New York 13069; phone: (315) 598-6130; email: steven.murphy@brookfieldrenewable.com; and Patrick Storms, Director of Operations, Erie Boulevard Hydropower, L.P., 800 Starbuck Avenue, Suite 201, Watertown, New York 13601; phone: (315) 779-2410; email: patrick.storms@brookfieldrenewable.com.

i. FERC Contact: Claire Rozdilski, 202-502-8529, or claire.rozdilski@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 29, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Franklin Falls Hydroelectric Project (P-15000-003).

m. The application is not ready for environmental analysis at this time.

n. The Franklin Falls Project consists of the following existing facilities: (1) a 148-foot-long, 45-foot-high concrete overflow-type dam at a crest elevation of 1,463.2 feet mean sea level (msl) with 2-foot-high flashboards; (2) a reservoir with a surface area of 485 acres and a gross storage capacity of 5,580 acre-feet at pool elevation 1,465.2 feet msl; (3) an integrated 28-foot-long gated intake structure located on the dam's right (south) side; (4) a 10.5-foot-diameter, 300-foot-long steel pipeline; (5) a surge tank; (6) two 10-foot-diameter, 38-foot-long penstocks; (7) a powerhouse containing two generating units having a total rated capacity of 2.265 megawatts; (8) 85-foot-long, 2.3-kilovolt (kV) generator leads; (9) a 2.3/46-kV step-up transformer bank; (10) a 300-foot-long, 46-kV transmission line; (11) a tailrace; and (12) appurtenant facilities. Erie does not propose changes to project facilities or operations. Erie is proposing to make a minor adjustment to the project boundary by removing approximately 1.12 acres along the northern shoreline, which are not needed for project operations, and adding approximately 0.14 acre to include the project's existing hand-carry boat launch.

The Franklin Falls Project operates in a modified run-of-river mode. If inflow exceeds the hydraulic capacity of the units, the project operates continuously at full load. When the inflow is less than the hydraulic capacity of the project, the project is operated in a run-of-river mode utilizing pondage as needed for daily flow regulation and to suit power requirements of the New York Independent System Operator. Average annual generation at the project was 10,349 megawatt-hours between 2016 and 2020.

o. A copy of the application may be viewed on the Commission's website at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Milestone | Target date
Issue Deficiency Letter (if necessary) | August 2022.
Request Additional Information (if necessary) | August 2022.
Issue Acceptance Letter and Notice | November 2022.
Issue Scoping Document 1 for comments | December 2022.
Issue Scoping Document 2 (if necessary) | February 2023.
Issue Notice of Ready for Environmental Analysis | March 2023.

Final amendments to the application must be filed with the Commission no later than 30 days from the issuance date of the notice of ready for environmental analysis.

Dated: July 8, 2022.
Kimberly D. Bose,
Secretary.

[FR Doc. 2022-15056 Filed 7-13-22; 8:45 am]

BILLING CODE 6717-01-P